DEPARTMENT OF TRANSPORTATION

Federal Aviation Administration

14 CFR Part 71

[Docket No. FAA-2023-0965; Airspace Docket No. 23-AGL-8]

RIN 2120-AA66

Amendment of VOR Federal Airways V-158 and V-172; Polo, IL

AGENCY: Federal Aviation Administration (FAA), DOT.

ACTION: Final rule.

SUMMARY: This action amends Very High Frequency Omnidirectional Range (VOR) Federal airways V-158 and V-172 in the vicinity of Polo, IL. The amendments are due to the planned decommissioning of the VOR portion of the Polo, IL (PLL), VOR/Distance Measuring Equipment (VOR/DME) navigational aid (NAVAID). The Polo VOR is being decommissioned as part of the FAA's VOR Minimum Operational Network (MON) program.

DATES: Effective date 0901 UTC, January 25, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System (NAS).

History

The FAA published a notice of proposed rulemaking for Docket No. FAA-2023-0965 in the Federal Register (88 FR 23595; April 18, 2023), proposing to amend VOR Federal airways V-158 and V-172 due to the planned decommissioning of the VOR portion of the Polo, IL, VOR/DME NAVAID. Interested parties were invited to participate in this rulemaking effort by submitting written comments on the proposal. One comment was received.

The commenter stated the FAA should keep the Polo VOR and associated VOR Federal airways, V-158 and V-172, because decommissioning them represented an aeronautical navigation challenge to instrument flight rules (IFR) aircraft not yet equipped with an IFR suitable global positioning system (GPS) and as a backup to GPS navigation, since there is a lack of other suitable VOR navigational aids in the area.

The VOR MON is designed to enable aircraft, having lost Global Navigation Satellite System (GNSS) service, to revert to conventional navigation procedures and enable aircraft to proceed to a MON airport where an Instrument Landing System (ILS) or VOR approach procedure can be flown without the necessity of GPS.

In December 2011, the FAA published a notice of proposed policy and request for comments in the Federal Register (76 FR 77939). The notice addressed the FAA's proposed strategy for reducing the current VOR network to a Minimum Operational Network (MON) in support of transitioning the NAS to performance-based navigation (PBN) as part of the Next Generation Air Transportation System (NextGen). The FAA announced that, as part of a NAS Efficient Streamlined Services Initiative, the number of VORs would be reduced while more efficient Area Navigation (RNAV) routes and procedures would be implemented throughout the NAS. The notice stated that the FAA, with assistance of a work group, would develop a candidate list of VORs for discontinuance using relevant operational, safety, cost, and economic criteria.

In response to comments received to the notice of proposed policy, the FAA published a disposition of comments notice in the Federal Register (77 FR 50420; August 21, 2012), stating it would develop an initial VOR MON discontinuance plan which would be made publicly available. As a result, the FAA convened a working group for developing the objective criteria to be used to help identify those VORs that would remain operational. Stakeholders, aviation industry, and military services provided further input to the FAA for consideration in developing the criteria to select VORs that needed to be retained as a part of the MON. With this collective input, the FAA developed the criteria to determine which VORs would be retained. The VORs not meeting these criteria were considered discontinuance candidates.

As referenced in the NPRM, the FAA published its VOR MON final policy statement in the Federal Register (81 FR 48694; July 26, 2016). In that notice, the candidate list of VORs to be discontinued was announced. The Polo, MI, VOR was announced as a candidate VOR for discontinuance. The FAA remains committed to its final policy statement and plan to retain an optimized VOR MON that enables pilots to revert from PBN to conventional navigation for approach, terminal, and enroute operations in the event of a GPS outage. This action supports the NAS transition from ground-based to satellite-based navigation consistent with the FAA's NextGen goals and the NAS Efficient Streamlined Services Initiative.

The commenter also stated that if the Polo VOR is decommissioned, there will not be any usable NAVAID between the Moline, IL, VOR and the DuPage, IL, VOR (a distance of 108 nautical miles (NM)) which is outside of the current VOR service volume, nor would there be any usable VOR connecting the Dubuque, IA, VOR/Tactical Air Navigation (VORTAC) with the Chicago area DuPage, IL, and Joliet, IL, VORs. The commenter continued that flying between the Dubuque, IA, VORTAC and the Joliet, IL, VOR/DME would put pilots outside current VOR service volumes due to significant limitations imposed on the Dubuque VOR and the limited ranges of the Davenport and Moline VORs.

In response, the FAA offers that although the route between the Moline VOR/DME and the DuPage, IL, VOR/DME is approximately 108 NM, pilots flying direct between those two VORs today are required to have their aircraft RNAV equipped since the distance, as stated, is beyond the service volume of the two NAVAIDS. However, there are other VOR Federal airway alternatives in the area that allow pilots to navigate between the Moline and DuPage VORs. A pilot could choose to navigate between the Moline and DuPage VORs via V-63 between the Moline VOR/DME and the Davenport, IA, VORTAC, then via V-6 between the Davenport VORTAC and the DuPage VOR/DME.

Likewise, there will continue to be VOR Federal airway alternatives available for navigating between the Dubuque, IA, area and the Chicago area DuPage, IL, and Joliet, IL, VORs. To navigate between the Dubuque VORTAC and DuPage VOR/DME, pilots may navigate via V-129 between the Dubuque and Davenport VORTACs, then via V-6 between the Davenport VORTAC and the DuPage VOR/DME. Alternatively, a pilot could choose to navigate between the Dubuque VORTAC and the Joliet VOR/DME via V-129 between the Dubuque VORTAC and the GENSO Fix, then via V-8 between the GENSO Fix and the Joliet VOR/DME.

Additionally, pilots may continue to navigate between the Dubuque, IA, area and the Chicago area Northbrook, IL, VOR/DME via V-246 between the Dubuque VORTAC and the Janesville, IL, VOR/DME, then via V-24 between the Janesville VOR/DME and the Northbrook VOR/DME.

Finally, pilots, regardless of flying under instrument flight rules or visual flight rules, may always request radar vectors from air traffic control for navigation assistance in the area or file and fly point-to-point using the Fixes and waypoints that will remain in the area if their aircraft is RNAV equipped.

Lastly, the commenter stated that the FAA's plan to use VORs with the new VOR service volumes, labeled as VOR Low (VL) and VOR High (VH), as a backup plan in the event of a GPS outage did not provide sufficient coverage in the vicinity of the Polo VOR/DME due to the operational limitations imposed on the Dubuque VORTAC and the Northbrook VOR/DME. The commenter thought that the Polo VOR and associated V-158 and V-172 airways segments should be retained until the limitations currently being imposed on the Dubuque and Northbrook VORs can be removed and the service volumes of the Joliet VOR/DME and the Davenport VORTAC can be increased to ensure signal coverage throughout the entire area.

As stated previously, the FAA remains committed to its final policy statement and plan to retain an optimized VOR MON that enables pilots to revert from PBN to conventional navigation for approach, terminal, and enroute operations in the event of a GPS outage. The limitations with the four listed VORs, Dubuque, Northbrook, Joliet, and Davenport, exist today due to the VOR type, user retention requirements, or an increase in tree/terrain blockage occurring over time causing certain radials of the VORs to become unusable. The limitations imposed on these four VORs do not affect the normal operation of the VORs until exceeding 40 NM below 14,500 feet mean seal level (MSL). Whether the Polo VOR remains operational or is decommissioned does not change the existing limitations on the four VORs, nor would it effect the use of the VOR Federal airway alternatives identified for pilots to continue navigating through the affected area. The FAA has determined that with the planned decommissioning of the Polo VOR, there remains sufficient conventional navigation enroute structure in place to enable pilots to navigate from the Dubuque, IA; Cedar Rapids, IA; or Moline, IL, areas into the Chicago Metropolitan Area.

Incorporation by Reference

VOR Federal airways are published in paragraph 6010(a) of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. This amendment action will be published in the next update to FAA Order JO 7400.11.

FAA Order JO 7400.11H lists Class A, B, C, D, and E airspace areas, air traffic service routes, and reporting points.

The Rule

This action amends 14 CFR part 71 by amending VOR Federal airways V-158 and V-172 due to the planned decommissioning of the VOR portion of the Polo, IL, VOR/DME. The airway actions are described below.

V-158: Prior to this final rule, V-158 extended between the Mason City, IA, VOR/DME and the intersection of the Polo, IL, VOR/DME 122° and Davenport, IA, VORTAC 087° radials (SHOOF Fix). The airway segment between the Dubuque, IA, VORTAC and the intersection of the Polo, IL, 122° and Davenport, IA, 087° radials (SHOOF Fix) is removed. As amended, the airway now extends between the Mason City VOR/DME and the Dubuque VORTAC.

V-172: Prior to this final rule, V-172 extended between the Columbus, NE, VOR/DME and the DuPage, IL, VOR/DME. The airway segment between the Cedar Rapids, IA, VOR/DME and the DuPage, IL, VOR/DME is removed. As amended, the airway now extends between the Columbus VOR/DME and the Cedar Rapids VOR/DME.

The NAVAID radials contained in the VOR Federal airway descriptions listed below in The Amendment section are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-158 and V-172, due to the planned decommissioning of the VOR portion of the Polo, IL, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6010(a) Domestic VOR Federal Airways.

* * * * *

V-158 [Amended]

From Mason City, IA; INT Mason City 106° and Dubuque, IA, 293° radials; to Dubuque.

* * * * *

V-172 [Amended]

From Columbus, NE; Omaha, IA; INT Omaha 066° and Newton, IA, 262° radials; Newton; to Cedar Rapids, IA.

* * * * *

Issued in Washington, DC.
Karen L. Chiodini,
Acting Manager, Rules and Regulations Group.

[FR Doc. 2023-24078 Filed 11-2-23; 8:45 am]

BILLING CODE 4910-13-P